ENVIRONMENTAL PROTECTION AGENCY

40 CFR Part 63

[FRL-7378-4]

Approval of Section 112(l) Authority for Hazardous Air Pollutants; Delegation of Section 111 and Section 112 Standards; State of New Hampshire

AGENCY: Environmental Protection Agency (EPA).

ACTION: Direct final rule; delegation of authority.

SUMMARY: EPA is taking direct final action to approve New Hampshire Department of Environmental Services' (NH DES) request for delegation of authority to implement and enforce its New Source Performance Standards (NSPSs) and National Emission Standards for Hazardous Air Pollutants (NESHAPs) which have been adopted by reference into New Hampshire's state regulations from the Federal requirements set forth in the Code of Federal Regulations. In addition, EPA is taking direct final action to approve NH DES's mechanism for receiving delegation of future NESHAPs and NSPSs. This approval delegates standards for both major and area sources and will automatically delegate future regulations and amendments to regulations once NH DES incorporates these regulations and amendments into its regulations. EPA is taking this action in accordance with the Clean Air Act (CAA).

DATES: This rule is effective on November 18, 2002, without further notice, unless EPA receives adverse comments by October 21, 2002. If EPA receives such comment, then it will publish a timely withdrawal in the Federal Register informing the public that this rule will not take effect.

ADDRESSES: Written comments must be submitted to Steven Rapp, Manager, Air Permits, Toxics and Indoor Programs Unit, Office of Ecosystem Protection (mail code CAP) at the EPA New England office listed below and to Barbara L. Hoffman, Stationary Source Planning Manager, at the New Hampshire Department of Environmental Services office listed below. Copies of NH DES's request for approval are available for public inspection at the following locations:

U.S. Environmental Protection Agency, EPA-New England, Office of Ecosystem Protection, One Congress Street, Suite 1100, Boston, MA 02114-2023.

New Hampshire Department of Environmental Services, Air Resources Division, 6 Hazen Drive, Concord, NH 03302-0095.

FOR FURTHER INFORMATION CONTACT: Susan Lancey, Office of Ecosystem Protection, U.S. Environmental Protection Agency, EPA-New England, One Congress Street, Suite 1100 (CAP), Boston, MA 02114-2023, Telephone: (617) 918-1656.

SUPPLEMENTARY INFORMATION:

Outline

I. Background

II. Has EPA Previously Delegated NSPS and NESHAP Standards to New Hampshire?

III. What Is NH DES Now Requesting?

IV. What Criteria Must NH's Program Meet To Be Approved?

V. Which Part 63 General Provisions Did NH DES Request Delegation for?

VI. What Action Is EPA Taking?

VII. Administrative Requirements

I. Background

Under section 112(l) of the CAA, EPA may delegate Federal section 112 rules without changes to states or approve state programs in lieu of the Federal section 112 rules. The Federal regulations governing EPA's approval of state and local rules or programs under section 112(l) are located at 40 CFR part 63, subpart E (See 65 FR 55810, dated September 14, 2000). Under these rules, EPA may approve state programs to implement and enforce the Federal section 112 rules without changes. This is referred to as straight delegation. In addition, EPA may approve state requests for one-time approval of their mechanism for taking delegation of future unchanged Federal section 112 rules, emission standards and requirements. To receive EPA approval for straight delegation, the requirements of 40 CFR 63.91 must be met.

II. Has EPA Previously Delegated NSPS and NESHAP Standards to New Hamsphire?

NH DES has been delegated the authority by EPA to implement and enforce certain NSPS codified at 40 CFR part 60, certain NESHAPs codified at 40 CFR part 61, and certain NESHAP referred to as Maximum Achievable Control Technology (MACT) standards codified at 40 part CFR 63. This delegation of authority was approved by EPA in the Federal Register on August 14, 1996 (See 61 FR 42222). This delegation extended only to facilities subject to New Hampshire's title V permit program and applied to existing standards. Under this delegation mechanism, delegation occurred upon incorporation of the MACT standard into the source's title V operating permit. In the August 14, 1996 Federal Register, EPA also proposed to approve this delegation mechanism for delegation of future standards. On October 2, 1996 (See 61 FR 51370), EPA approved this delegation mechanism.

III. What Is NH DES Now Requesting?

On May 9, 2002, the NH DES submitted a request to EPA to receive straight delegation of authority to implement and enforce the NESHAP and NSPS ¹ regulations for both major and area sources under a new delegation mechanism. NH DES is now requesting to take delegation of these standards by incorporating these standards into NH DES's regulations. On April 5, 2002, DES adopted a rule, Env-500, that incorporates by reference NSPS and NESHAP regulations as set forth in the Code of Federal Regulations as of July 1, 2001. In addition, NH DES incorporated 40 CFR part 63 subpart D, Regulations Governing Compliance Extensions for Early Reductions of Hazardous Air Pollutants. NH DES has incorporated all NSPS and NESHAP regulations as indicated in Table 1 and requested delegation of these standards. NH DES did not incorporate 40 CFR part 63, subpart M—national perchloroethylene air emission standards for dry cleaning facilities. NH DES intends to continue implementing and enforcing this standard only for facilities subject to the title V permit program, consistent with EPA's previous delegation of that standard to DES on August 14, 1996. NH DES also did not incorporate certain standards where the state has no applicable sources. For example, New Hampshire does not have any coke ovens or magnetic tape manufacturers. Therefore, NH DES did not incorporate subpart L, the national emission standard for hazardous air pollutants for coke oven batteries nor subpart EE, the national emission standard for hazardous air pollutants for magnetic tape manufacturing operations. In addition, NH DES has incorporated by reference 40 CFR 61, subpart M—national emission standards for asbestos, with the exception of 40 CFR 61.151, standard for inactive waste disposal sites for asbestos mills and manufacturing and fabricating operations. On June 28, 2002, NH DES submitted a partial rule substitution request to EPA pursuant to 40 CFR 63.93 for a portion of that rule and is therefore not requesting straight delegation of section 61.151. Please refer to Table 1 for a complete list of the standards that NH DES is requesting delegation for as set forth in the Code of Federal Regulations as of July 1, 2001.

¹ Please note Federal rulemaking is not required for delegation of section 111 standards.

In addition, NH DES requested that EPA approve NH DES's delegation mechanism for delegation of all future standards. NH DES's delegation mechanism is to incorporate all new or revised standards by reference and to receive future delegation upon adoption by NH DES of the new or revised standards. The details of this delegation mechanism are set forth in Attachment 2 to the NH DES delegation request letter dated May 9, 2002.

IV. What Criteria Must NH's Program Meet To Be Approved?

Section 112(l)(5) of the Act requires that a state's NESHAP program contain adequate authorities, adequate resources for implementation, and an expeditious compliance schedule. These are also requirements for an adequate operating permits program under 40 CFR part 70. On September 24, 2001, EPA promulgated full approval of the State's operating permits program as administered by NH DES. (See 66 FR 48806) In addition, on May 16, 2001, EPA has already provided “up-front” approval of the NH DES NESHAP program in accordance with 40 CFR section 63.91(d). (See 66 FR 27032) Under section 63.91(d)(2), once a state has satisfied up-front approval criteria, it needs only to reference the previous demonstration and reaffirm that it still meets the criteria for any subsequent submittals. NH DES has affirmed that it still meets the up-front approval criteria.

V. Which Part 63 General Provisions Did NH DES Request Delegation for?

Under section 63.91(g), EPA has identified which part 63 general provisions may be delegated to state/local/tribal (S/L/T) agencies and which general provisions must be retained by EPA. NH DES has incorporated part 63 subpart A in its entirety but has requested that EPA delegate only the delegable authorities of the part 63 general provisions as identified in section 63.91(g)(i). The delegable authorities include the following:

(A) Section 63.1, Applicability Determinations

(B) Section 63.6(e), Operation and Maintenance Requirements—Responsibility for Determining Compliance

(C) Section 63.6(f), Compliance with Non-Opacity Standards—Responsibility for Determining Compliance

(D) Section 63.6(h), Compliance with Opacity and Visible Emissions Standards—Responsibility for Determining Compliance

(E) Sections 63.7(c)(2)(i) and (d), Approval of Site-Specific Test Plans

(F) Section 63.7(e)(2)(i), Approval of Minor Alternatives to Test Methods

(G) Section 63.7(e)(2)(ii) and (f), Approval of Intermediate Alternatives to Test Methods

(H) Section 63.7(e)(iii), Approval of Shorter Sampling Times and Volumes When Necessitated by Process Variables or Other Factors

(I) Sections 63.7(e)(2)(iv), (h)(2), and (h)(3), Waiver of Performance Testing

(J) Sections 63.8(c)(1) and (e)(1), Approval of Site-Specific Performance Evaluation (Monitoring) Test Plans

(K) Section 63.8(f), Approval of Minor Alternatives to Monitoring

(L) Section 63.8(f), Approval of Intermediate Alternatives to Monitoring

(M) Sections 63.9 and 63.10, Approval of Adjustments to Time Periods for Submitting Reports

(N) Section 63.10(f), Approval of Minor Alternatives to Recordkeeping and Reporting

VI. What Action Is EPA Taking?

EPA has determined that NH DES has satisfied the approval criteria of 40 CFR 63.91(d). EPA is approving NH DES's delegation of the NSPS, NESHAP and MACT standards indicated in Table 1. EPA is also approving delegation of all delegable authorities of the part 63 general provisions identified in section 63.91(g)(1) and section V above. In addition, EPA is approving NH DES's delegation mechanism for delegation of all future standards according to the delegation procedures identified in Attachment 2 of the delegation request letter dated May 9, 2002 from NH DES to EPA. The NH DES has the primary authority and responsibility to carry out all elements of these programs for all sources covered in New Hampshire, including on-site inspections, record keeping reviews, and enforcement.

VII. Administrative Requirements

A. Executive Order 12866

The Office of Management and Budget has exempted this regulatory action from Executive Order 12866, entitled “Regulatory Planning and Review.” This rule is not subject to Executive Order 13045, entitled, “Protection of Children from Environmental Health Risks and Safety Risks,” because it is not an “economically significant” action under Executive Order 12866.

B. Executive Order 13175

Executive Order 13175, entitled “Consultation and Coordination with Indian Tribal Governments” (65 FR 67249, November 6, 2000), requires EPA to develop an accountable process to ensure “meaningful and timely input by tribal officials in the development of regulatory policies that have tribal implications.” “Policies that have tribal implications” is defined in the Executive Order to include regulations that have “substantial direct effects on one or more Indian tribes, on the relationship between the Federal government and the Indian tribes, or on the distribution of power and responsibilities between the Federal government and Indian tribes.”

This final rule does not have tribal implications. It will not have substantial direct effects on tribal governments, on the relationship between the Federal government and Indian tribes, or on the distribution of power and responsibilities between the Federal government and Indian tribes, as specified in Executive Order 13175. This Federal action allows the State of New Hampshire to implement and enforce existing and future requirements under Federal law and does not have tribal implications. Thus, Executive Order 13175 does not apply to this rule.

C. Executive Order 13132

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This final rule does not have federalism implications. It will not have substantial direct effects on the States, on the relationship between the national government and the States, or on the distribution of power and responsibilities among the various levels of government, as specified in Executive Order 13132. This action simply allows New Hampshire to implement and enforce existing and future Federal standards, and does not alter the relationship or the distribution of power and responsibilities established in the Clean Air Act. Thus, Executive Order 13132 does not apply to this rule.

D. Executive Order 13211 (Energy Effects)

This rule is not subject to Executive Order 13211, “Actions Concerning Regulations That Significantly Affect Energy Supply, Distribution, or Use” (66 FR 28355 (May 22, 2001)) because it is not a significant regulatory action under Executive Order 12866.

E. Regulatory Flexibility Act

The Regulatory Flexibility Act (RFA), as amended by the Small Business Regulatory Enforcement Fairness Act of 1996 (SBREFA), 5 U.S.C. 601 et seq. generally requires an agency to prepare a regulatory flexibility analysis of any rule subject to notice and comment rulemaking requirements under the Administrative Procedure Act or any other statute unless the agency certifies that the rule will not have a significant economic impact on a substantial number of small entities. Small entities include small businesses, small not-for-profit enterprises, and small governmental entities with jurisdiction over populations of less than 50,000. This final rule will not have a significant impact on a substantial number of small entities because approvals under 40 CFR 63.91 do not create any new requirements but simply allows the state to implement and enforce Federal requirements that the EPA is already imposing. Therefore, because this approval does not create any new requirements, I certify that this action will not have a significant economic impact on a substantial number of small entities.

F. Unfunded Mandates

Under section 202 of the Unfunded Mandates Reform Act of 1995 (“Unfunded Mandates Act”), signed into law on March 22, 1995, EPA must prepare a budgetary impact statement to accompany any proposed or final rule that includes a Federal mandate that may result in estimated annual costs to state, local, or tribal governments in the aggregate, or to the private sector, of $100 million or more. Under section 205, EPA must select the most cost-effective and least burdensome alternative that achieves the objectives of the rule and is consistent with statutory requirements. Section 203 requires EPA to establish a plan for informing and advising any small governments that may be significantly or uniquely impacted by the rule.

EPA has determined that the approval action promulgated does not include a Federal mandate that may result in estimated annual costs of $100 million or more to either state, local, or tribal governments in the aggregate, or to the private sector. This Federal action allows New Hampshire to implement existing and future requirements under Federal law, and imposes no new requirements. Accordingly, no additional costs to state, local, or tribal governments, or to the private sector, result from this action.

G. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major” rule as defined by 5 U.S.C. 804(2).

H. National Technology Transfer and Advancement Act

Section 12(d) of the National Technology Transfer and Advancement Act of 1995 (“NTTAA”), Public Law No. 104-113, Section 12(d) (15 U.S.C. 272 note) directs EPA to use voluntary consensus standards in its regulatory activities unless to do so would be inconsistent with applicable law or otherwise impractical. Voluntary consensus standards are technical standards (e.g., materials specifications, test methods, sampling procedures, and business practices) that are developed or adopted by voluntary consensus standards bodies. The NTTAA directs EPA to provide Congress, through OMB, explanations when the Agency decides not to use available and applicable voluntary consensus standards. This action does not involve technical standards. Therefore, EPA did not consider the use of any voluntary consensus standards.

I. Petitions for Judicial Review

Under section 307(b)(1) of the Clean Air Act, petitions for judicial review of this action must be filed in the United States Court of Appeals for the appropriate circuit by November 18, 2002. Filing a petition for reconsideration by the Administrator of this final rule does not affect the finality of this rule for the purposes of judicial review nor does it extend the time within which a petition for judicial review may be filed, and shall not postpone the effectiveness of such rule or action. This action may not be challenged later in proceedings to enforce its requirements (see section 307(b)(2)).

List of Subjects in 40 CFR Part 63

Environmental protection, Air pollution control, Administrative practice and procedure, Hazardous substances, Intergovernmental relations, Reporting and recordkeeping requirements.

Authority: This action is issued under the authority of section 112 of the Clean Air Act, as amended, 42 U.S.C. 7412.

Dated: September 3, 2002.
Robert W. Varney,
Regional Administrator, EPA-New England.

Table 1.—Delegation of Part 60, Part 61 and Part 63 Standards to New Hampshire as set forth in the Code of Federal Regulations as of July 1, 2001

Part 60 Subpart Categories

A—General Provisions, except for Sections 60.4, 60.8(b)(2), 60.8(b)(3), 60.9, 60.10, 60.11(e) and 60.16

D—Standards of Performance for Fossil-Fuel-Fired Steam Generators for which Construction is Commenced after August 17, 1971

Da—Standards of Performance for Electric Utility Steam Generating Units for which Construction is Commenced after September 18, 1978

Db—Standards of Performance for Industrial-Commercial-Institutional Steam Generating Units

Dc—Standards of Performance for Small Industrial-Commercial-Institutional Steam Generating Units

E—Standards of Performance for Incinerators

Ea—Standards of Performance for Municipal Waste Combustors for which Construction is Commenced after December 20, 1989 and on or before September 20, 1994

Eb—Standards of Performance for Large Municipal Waste Combustors for which Construction is Commenced after September 20, 1994 or for which Modification or Reconstruction is Commenced after June 19, 1996

Ec—Standards of Performance for Hospital/Medical/Infectious Waste Incinerators for Which Construction is Commenced after June 20, 1996

I—Standards of Performance for Hot Mix Asphalt Facilities

J—Standards of Performance for Petroleum Refineries

K—Standards of Performance for Storage Vessels for Petroleum Liquids for which Construction, Reconstruction, or Modification Commenced after June 11, 1973, and prior to May 19, 1978

Ka—Standards of Performance for Storage Vessels for Petroleum Liquids for which Construction, Reconstruction, or Modification Commenced after May 18, 1978, and prior to July 23, 1984

Kb—Standards of Performance for Volatile Organic Liquid Storage Vessels, Including Petroleum Liquid Storage Vessels, for which Construction, Reconstruction, or Modification Commenced after July 23, 1984

L—Standards of Performance for Secondary Lead Smelters

M—Standards of Performance for Secondary Brass and Bronze Production Plants

N—Standards of Performance for Primary Emissions from Basic Oxygen Process Furnaces for which Construction is Commenced after June 11, 1973

O—Standards of Performance for Sewage Treatment Plants

AA—Standards of Performance for Steel Plants: Electric Arc Furnaces Constructed after October 21, 1974 and on or before August 17, 1983

BB—Standards of Performance for Kraft Pulp Mills

DD—Standards of Performance for Grain Elevators

EE—Standards of Performance for Surface Coating of Metal Furniture

GG—Standards of Performance for Stationary Gas Turbines

KK—Standards of Performance for Lead-Acid Battery Manufacturing Plants

LL—Standards of Performance for Metallic Mineral Processing Plants

QQ—Standards of Performance for the Graphic Arts Industry: Publication Rotogravure Printing

RR— Standards of Performance for Pressure Sensitive Tape and Label Surface Coating Operations

TT—Standards of Performance for Metal Coil Surface Coating

UU—Standards of Performance for Asphalt Processing and Asphalt Roofing Manufacture

VV—Standards of Performance for Equipment Leaks of VOC in the Synthetic Organic Chemicals Manufacturing Industry

WW—Standards of Performance for the Beverage Can Surface Coating Industry

XX—Standards of Performance for Bulk Gasoline Terminals

BBB—Standards of Performance for the Rubber Tire Manufacturing Industry

FFF—Standards of Performance for Flexible Vinyl and Urethane Coating and Printing

GGG—Standards of Performance for Equipment Leaks of VOC in Petroleum Refineries

HHH—Standards of Performance for Synthetic Fiber Production Facilities

JJJ—Standards of Performance for Petroleum Dry Cleaners

OOO—Standards of Performance for Nonmetallic Mineral Processing Plants

QQQ—Standards of Performance for VOC Emissions from Petroleum Waste Water Systems

SSS—Standards of Performance for Magnetic Tape Coating Facilities

TTT—Standards of Performance for Industrial Surface Coating: Surface Coating of Plastic Parts for Business Machines

UUU—Standards of Performance for Calciners and Dryers in Mineral Industries

VVV—Standards of Performance for Polymeric Coating of Supporting Substrates Facilities

WWW—Standards of Performance for Municipal Solid Waste Landfills

AAAA—Standards of Performance for Small Municipal Waste Combustion Units

CCCC—Standards of Performance for Commercial and Industrial Solid Waste Incineration Units

Part 61 Subpart Categories

C—National Emission Standards for Beryllium

E—National Emission Standards for Mercury

J—National Emission Standards for Equipment Leaks, Fugitive Emission Sources, of Benzene

M—National Emission Standards for Asbestos, except for 40 CFR § 61.151, Inactive Waste Disposal Sites

V— National Emission Standards for Equipment Leaks, Fugitive Emission Sources

Part 63 Subpart Categories

A—General Provisions, Delegable Authorities Identified in Section 63.91(g)

D—Regulations Governing Compliance Extensions for Early Reductions of Hazardous Air Pollutants

F—National Emission Standards for Organic Hazardous Air Pollutants from the Synthetic Organic Chemical Manufacturing Industry

G—National Emission Standards for Organic Hazardous Air Pollutants from the Synthetic Organic Chemical Manufacturing Industry for Process Vents, Storage Vessels, Transfer Operations, and Wastewater

H—National Emission Standards for Organic Hazardous Air Pollutants for Equipment Leaks

I—National Emission Standards for Organic Hazardous Air Pollutants for Certain Processes Subject to the Negotiated Regulation for Equipment Leaks

N—National Emission Standards for Chromium Emissions from Hard and Decorative Chromium Electroplating and Chromium Anodizing Tanks

O—Ethylene Oxide Emissions Standards for Sterilization Facilities

Q—National Emission Standards for Hazardous Pollutants for Industrial Process Cooling Towers

R—National Emission Standards for Gasoline Distribution Facilities, Bulk Gasoline Terminals and Pipeline Breakout Stations

S—National Emission Standards for Hazardous Air Pollutants from the Pulp and Paper Industry

T—National Emission Standards for Halogenated Solvent Cleaning

U—National Emission Standards for Hazardous Air Pollutant Emissions: Group I Polymers and Resins

W—National Emission Standards for Hazardous Air Pollutants for Epoxy Resins Production and Non-nylon Polyamides Production

X—National Emission Standards for Hazardous Air Pollutants from Secondary Lead Smelting

Y—National Emission Standards for Marine Tank Vessel Loading Operations

AA—National Emission Standards for Hazardous Air Pollutants from Phosphoric Acid Manufacturing Plants

BB—National Emission Standards for Hazardous Air Pollutants from Phosphate Fertilizer Production Plants

CC—National Emission Standards for Hazardous Air Pollutants from Petroleum Refineries

DD—National Emission Standards for Hazardous Air Pollutants from Offsite Waste and Recovery Operations

GG—National Emission Standards for Aerospace Manufacturing and Rework Facilities

HH—National Emission Standards for Hazardous Air Pollutants from Oil and Natural Gas Production Facilities

II—National Emission Standards for Shipbuilding and Ship Repair, Surface Coating

JJ—National Emission Standards for Wood Furniture Manufacturing Operations

KK—National Emission Standards for the Printing and Publishing Industry

LL—National Emission Standards for Hazardous Air Pollutants for Primary Aluminum Reduction Plants

MM—National Emission Standards for Hazardous Air Pollutants for Chemical Recovery Combustion Sources at Kraft, Soda, Sulfite, and Stand-Alone Semichemical Pulp Mills

OO—National Emission Standards for Tanks—Level 1

PP—National Emission Standards for Containers

QQ—National Emission Standards for Surface Impoundments

RR—National Emission Standards for Individual Drain Systems

SS—National Emission Standards for Closed Vent Systems, Control Devices, Recovery Devices and Routing to a Fuel Gas System or a Process

TT—National Emission Standards for Equipment Leaks—Control Level 1

UU—National Emission Standards for Equipment Leaks—Control Level 2 Standards

VV—National Emission Standards for Oil-Water Separators and Organic-Water Separators

WW—National Emission Standards for Storage Vessels, Tanks—Control Level 2

YY—National Emission Standards for Hazardous Air Pollutants for Source Categories: Generic Maximum Achievable Control Technology Standards

CCC—National Emission Standards for Hazardous Air Pollutants for Steel Pickling—HCl Process Facilities and Hydrochloric Acid Regeneration Plants

DDD—National Emission Standards for Hazardous Air Pollutants for Mineral Wool Production

EEE—National Emission Standards for Hazardous Air Pollutants from Hazardous Waste Combustors

GGG—National Emission Standards for Pharmaceuticals Production

HHH—National Emission Standards for Hazardous Air Pollutants from Natural Gas Transmission and Storage Facilities

III—National Emission Standards for Hazardous Air Pollutants for Flexible Polyurethane Foam Production

JJJ—National Emission Standards for Hazardous Air Pollutant Emissions: Group IV Polymers and Resins

LLL—National Emission Standards for Hazardous Air Pollutants from the Portland Cement Manufacturing Industry

MMM—National Emission Standards for Hazardous Air Pollutants for Pesticide Active Ingredient Production

NNN—National Emission Standards for Hazardous Air Pollutants for Wool Fiberglass Manufacturing

OOO—National Emission Standards for Hazardous Air Pollutant Emissions: Manufacture of Amino/Phenolic Resins

PPP—National Emission Standards for Hazardous Air Pollutant Emissions for Polyether Polyols Production

RRR—National Emission Standards for Hazardous Air Pollutants Secondary Aluminum Production

TTT—National Emission Standards for Hazardous Air Pollutants for Primary Lead Smelting

VVV—National Emission Standards for Hazardous Air Pollutants: Publicly Owned Treatment Works

XXX—National Emission Standards for Hazardous Air Pollutants for Ferroalloys Production: Ferromanganese and Silicomanganese

Title 40, chapter I, part 63 of the Code of Federal Regulations is amended as follows:

PART 63—[AMENDED]

1. The authority citation for part 63 continues to read as follows:

Authority: 42 U.S.C. 7401, et seq.

Subpart E—Approval of State Programs and Delegation of Federal Authorities

2. Section 63.99 is amended by adding paragraph (a)(29)(i) to read as follows:

§ 63.99 Delegated Federal Authorities

(a) * * *

(29) New Hampshire.

(i) New Hampshire is delegated the authority to implement and enforce all existing and future unchanged 40 CFR part 63 standards in accordance with the delegation procedures in Attachment II of the delegation request letter dated May 9, 2002 submitted by NH DES to EPA and any mutually acceptable amendments to those delegation procedures.

* * * * *

[FR Doc. 02-23728 Filed 9-18-02; 8:45 am]

BILLING CODE 6560-50-P